DEPARTMENT OF DEFENSE

Office of the Secretary

32 CFR Part 182

[Docket ID: DOD-2017-OS-0052]

RIN 0790-AK04

Defense Support of Civilian Law Enforcement Agencies

AGENCY: Under Secretary of Defense for Policy, DoD.

ACTION: Final rule.

SUMMARY: This final rule removes the Department of Defense (DoD) regulation concerning defense support of civilian law enforcement agencies. This part establishes DoD policy, assigns responsibilities, and provides procedures to key DoD individuals who provide support to Federal, State, Tribal, and local civilian law enforcement agencies within the United States, including the District of Columbia, the Commonwealth of Puerto Rico, the U.S. Virgin Islands, Guam, American Samoa, the Commonwealth of the Northern Mariana Islands, and any territory or possession of the United States or any other political subdivision thereof. Although civilian law enforcement agencies may request support from DoD, this part neither confers a benefit not otherwise provided for in statute nor imposes a burden on civilian law enforcement agencies. Therefore, this part may be removed from the CFR.

DATES: This rule is effective on April 5, 2018.

FOR FURTHER INFORMATION CONTACT: James (Coach) Ross at 571-256-8325.

SUPPLEMENTARY INFORMATION: It has been determined that publication of this CFR part removal for public comment is impracticable, unnecessary, and contrary to public interest since it is based on removing DoD internal policies and procedures that are publicly available on the Department's issuance website.

DoD internal guidance concerning defense support of civilian law enforcement agencies will continue to be published in DoD Instruction 3025.21, “Defense Support of Civilian Law Enforcement Agencies,” available at http://www.esd.whs.mil/Portals/54/Documents/DD/issuances/dodi/302521p.pdf.

This rule is not significant under Executive Order (E.O.) 12866, “Regulatory Planning and Review,” therefore, E.O. 13771, “Reducing Regulation and Controlling Regulatory Costs” does not apply.

List of Subjects in 32 CFR Part 182

Armed forces, Law enforcement.

PART 182—[REMOVED]

Accordingly, by the authority of 5 U.S.C. 301, 32 CFR part 182 is removed.

Dated: March 30, 2018.
Aaron T. Siegel,
Alternate OSD Federal Register Liaison Officer, Department of Defense.

[FR Doc. 2018-06935 Filed 4-4-18; 8:45 am]

BILLING CODE 5001-06-P